DEPARTMENT OF THE INTERIOR

Fish and Wildlife Service

[FWS-R8-ES-2013-N167; FF08ESMF-FXES11120800000-134]

Habitat Conservation Plan for the Community of Los Osos, San Luis Obispo County, CA; Notice of Intent

AGENCY: Fish and Wildlife Service, Interior.

ACTION: Notice of intent; notice of public scoping meeting; request for comments.

SUMMARY: We, the U.S. Fish and Wildlife Service, intend to prepare either an Environmental Assessment (EA) or an Environmental Impact Statement (EIS) under the National Environmental Policy Act, as amended (NEPA), for the proposed Los Osos Community-wide Habitat Conservation Plan (LOHCP or plan). The LOHCP is being prepared by the County of San Luis Obispo (County or applicant) in support of its application for an incidental take permit under the Endangered Species Act of 1973, as amended (Act). The decision to prepare an EA or EIS will be, in part, contingent on the complexity of issues identified during, and following, the scoping phase of the NEPA process. The proposed permit would authorize the incidental take of threatened and endangered wildlife species that could result from the activities covered under the LOHCP and would include conservation measures to an endangered plant species that would also be covered under the plan. We announce meetings and invite comments from other agencies, Tribes, and the public.

DATES: To ensure consideration of any written comments, please send by November 4, 2013. Two public scoping meetings will be held on Tuesday, October 8, 2013; the first from 3:30 to 5:30 p.m., and the second from 7 to 9 p.m. For the public meeting address, see “Scoping Meetings” below.

ADDRESSES: To request further information or submit written comments, please use one of the following methods and note that your information request or comment is in reference to the Los Osos Community-wide Habitat Conservation Plan.

• U.S. Mail: U.S. Fish and Wildlife Service, Ventura Fish and Wildlife Office, 2493 Portola Road, Suite B, Ventura, CA 93003.

• In Person Drop-off, Viewing, or Pick-Up: Call 805-644-1766 to make an appointment during regular business hours to drop off comments or view received comments at the U.S. mail address above.

• Facsimile: U.S. Fish and Wildlife Service, 805-644-3958, Attn: Julie M. Vanderwier.

FOR FURTHER INFORMATION CONTACT: Julie M. Vanderwier, Senior Fish and Wildlife Biologist, or Douglass M. Cooper, Deputy Assistant Field Supervisor, by phone at 805-644-1766 or by U.S. mail at the above address. If you use a telecommunications device for the deaf, please call the Federal Information Relay Service at 800-977-8339.

SUPPLEMENTARY INFORMATION: We, the U.S. Fish and Wildlife Service (Service), publish this notice under the National Environmental Policy Act of 1969, as amended (42 U.S.C. 4321 et seq.; NEPA), and its implementing regulations in the Code of Federal Regulations (CFR) at 40 CFR 1506.6, as well as in compliance with section 10(c) of the Act. We intend to prepare either a draft EA or EIS, hereafter referred to as the NEPA document, to evaluate the impacts of several alternatives related to the potential issuance of an incidental take permit (ITP) to the applicant, as well as impacts of the proposed Los Osos Community-wide Habitat Conservation Plan.

The LOHCP is a comprehensive plan designed to provide long-term conservation and management of sensitive species and the habitats upon which those species depend within the Los Osos plan area, while accommodating other important land uses.

Background

Section 9 of the Act (16 U.S.C. 1531 et seq.) and its implementing regulations prohibit the “take” of wildlife species listed as endangered or threatened. The Act defines the term “take” as to harass, harm, pursue, hunt, shoot, wound, kill, trap, capture, or collect listed wildlife species, or to attempt to engage in any such conduct. Harm includes significant habitat modifications or degradation where it actually kills or injures wildlife by significantly impairing essential behavior patterns, including breeding, feeding, or sheltering (50 CFR 17.3(c)). Pursuant to section 10(a)(1)(B) of the Act, we may issue permits to authorize “incidental take” of listed wildlife species. “Incidental take” is defined by the Act as take that is incidental to, and not the purpose of, carrying out an otherwise lawful activity. Service regulations governing permits for endangered and threatened species are promulgated at 50 CFR 17.22 and 50 CFR 17.32, respectively.

Section 10(a)(1)(B) of the Act contains provisions for issuing such ITPs to non-Federal entities for the take of endangered and threatened wildlife species, provided the following criteria are met:

• The taking will be incidental to an otherwise lawful activity;

• The applicant will, to the maximum extent practicable, minimize and mitigate the impact of such taking;

• The applicant will develop a proposed habitat conservation plan (HCP) and ensure that adequate funding for the plan is provided;

• The taking will not appreciably reduce the likelihood of the survival and recovery of the species in the wild; and

• The applicant will carry out any other measures that the Service may deem necessary or appropriate for purposes of implementing the HCP.

Thus, the purpose of the proposed ITP is to authorize the County of San Luis Obispo to incidentally take covered wildlife species associated with development and other covered activities within the Los Osos plan area provided such take is minimized and mitigated through an HCP (the LOHCP) that meets the requirements of the Act. Implementation of an HCP for multiple species can maximize the benefits of conservation measures and eliminate expensive and time-consuming efforts associated with processing of individual species ITPs. The Service expects the County will request a permit term of 25 years.

Plan Area

The LOHCP plan area includes approximately 3,560 acres in the unincorporated community of Los Osos. It is largely coterminous with the Los Osos Urban Reserve Line—the boundary separating suburban and rural land uses in the region, within which land use is guided by the Estero Area Plan. The plan area borders the Morro Bay Estuary to the west, Morro Bay State Park to the north, Los Osos Creek to the east, and Montana de Oro State Park to the south. This area includes suitable habitat for the covered species that is anticipated to be impacted by the activities covered in the LOHCP.

Covered Activities

Four main categories of covered activities were identified through the outreach conducted by the County to prepare the LOHCP:

• Private development: Commercial and residential development and redevelopment (including remodels) on privately owned parcels;

• Capital Projects: Public and private utility company facility and infrastructure development projects, such as building or expanding roads, libraries, and parks;

• Facilities Operations and Maintenance: Public and private utility company activities to operate and maintain, including repair and replace, existing facilities, such as roads, drainage basins, and water systems; and

• Conservation Strategy Implementation: Activities conducted to implement the LOHCP conservation strategy, including restoration, management, maintenance, and monitoring of conservation lands used to mitigate the effects of the other covered activities.

As the permittee, the County would have the ability to issue certificates of inclusion to confer take coverage to landowners and other entities for covered species and activities.

The LOHCP will include measures necessary to avoid, minimize, and mitigate the effects of the taking for three wildlife species covered by the plan that result from private development, capital projects, facilities operation and maintenance, and implementation of the conservation strategy within plan area. The LOHCP will also include measures to conserve one endangered plant species covered by the plan.

Covered Species

We anticipate that four federally listed species will be included as covered species in the proposed LOHCP: Morro Bay kangaroo rat (Dipodomys heermanni morroensis; federally endangered), Morro shoulderband snail (Helminthoglypta walkeriana; federally endangered), Indian Knob mountainbalm (Eriodictyon altissimum; federally endangered), and Morro manzanita (Arctostaphylos morroensis; federally threatened).

“Take” under the Act does not apply to listed plant species. Consequently, the Act does not prohibit take of listed plant species, and take of listed plant species cannot be authorized under an ITP. The LOCHP proposes to include a listed plant species on the permit in recognition of the conservation benefits provided for them under the LOHCP. Additionally, inclusion of protections for federally listed plant species in an HCP assists us in meeting our regulatory obligations under section 7(a)(2) of the Act.

The applicant would receive assurances under the Service's “No Surprises” regulations found in 50 CFR 17.22(b)(5) and 17.32(b)(5) for all species included on the ITP.

Environmental Assessment or Environmental Impact Statement

Before deciding whether or not to issue the requested ITP, the Service will prepare a draft NEPA document to analyze the environmental impacts associated with issuance of this permit. In this document, we will consider the following alternatives: (1) The proposed action, which includes the issuance of take authorizations consistent with the proposed LOHCP under section 10(a)(1)(B) of the Act; (2) no-action (no permit issuance); and (3) a reasonable range of alternatives that could include variations in impacts, conservation, permit duration, covered species, covered activities, permit area, or a combination of these elements.

The NEPA document will identify and analyze potentially significant direct, indirect, and cumulative impacts of permit issuance and the implementation of the proposed LOHCP on biological resources, land uses, utilities, air quality, water resources, cultural resources, socioeconomics and environmental justice, recreation, aesthetics, climate change and greenhouse gases, and other environmental issues that could occur with the implementation of each alternative. The Service will also identify measures to avoid or minimize any significant effects of the proposed action on the quality of the human environment.

Following completion of the environmental review, the Service will publish a notice of availability and a request for comment on the draft NEPA document and the applicant's permit application (which will include the proposed LOHCP.)

Public Comments

We request data, comments, new information, and suggestions from the public, other concerned governmental agencies, the scientific community, Tribes, industry, or any other party on this notice. We will consider these comments in developing a draft NEPA document and in the development of the LOCHP and ITP. We particularly seek comments on the following:

1. Biological information concerning the species proposed to be covered in the LOHCP, including information on range, distribution, population sizes, and population trends;

2. Relevant information concerning impacts of proposed covered activities on these species;

3. Information on other current or planned activities in the plan area and their possible impacts on the species;

4. The presence of archaeological sites, buildings and structures, historic events, sacred and traditional areas, and other historic preservation concerns, which must be considered in project planning by the National Historic Preservation Act;

5. A range of alternatives to be included in the NEPA document; and

6. Any other environmental issues that should be considered with regard to the proposed development and permit action.

You may submit your comments and materials by any one of the methods listed in the ADDRESSES section.

Comments and materials we receive, as well as supporting documentation we use in preparing the draft NEPA document, will be available for public inspection by appointment, during normal business hours (Monday through Friday, 8 a.m. to 4 p.m.) at the Service's Ventura address (see ADDRESSES). Please note that all comments and materials we receive, including names and addresses, will become part of the administrative record and may be released to the public. Before including your address, phone number, email address, or other personal identifying information in your comment, you should be aware that your entire comment—including your personal identifying information—may be made publicly available at any time. While you can ask us in your comment to withhold your personal identifying information from public review, we cannot guarantee that we will be able to do so.

Scoping Meetings

The scoping meeting will be held at the South Bay Community Center, located at 2180 Palisades Avenue, Los Osos, CA; see DATES for the dates and times of the meetings. The purpose of scoping meetings is to provide the public with a general understanding of the background of the proposed LOHCP and activities it would cover, alternative proposals under consideration for the draft EA or EIS, and the Service's role and steps to be taken to develop the draft NEPA document for the proposed LOHCP; and also to solicit suggestions and information on the scope of issues and alternatives for the Service to consider when drafting the EA or EIS. Written comments will be accepted at the meetings. Comments can also be submitted by the methods listed in the ADDRESSES section. Once the draft NEPA document and proposed LOCHP are complete and made available for public review, there will be additional opportunity for public comments on the content of these documents.

Scoping Meetings Location Accommodations

Persons needing reasonable accommodation in order to attend and participate in the public meetings should contact Julie M. Vanderwier at 805-664-1766 as soon as possible. In order to allow sufficient time to process requests, a request should be submitted no later than 1 week before the public meetings.

Authority

We provide this notice under section 10(c) of the Act (16 U.S.C. 1531 et seq.) and NEPA implementing regulations (40 CFR 1501.7, 40 CFR 1506.6, and 40 CFR 1508.22).

Dated: September 13, 2013.
Alexandra Pitts,
Deputy Regional Director, Pacific Southwest Region, Sacramento, CA.

[FR Doc. 2013-22778 Filed 9-18-13; 8:45 am]

BILLING CODE 4310-55-P